DEPARTMENT OF THE INTERIOR

National Park Service

Notice of Intent to Repatriate Cultural Items: U.S. Department of the Interior, National Park Service, Intermountain Region, Santa Fe, NM

AGENCY: National Park Service, Interior.

ACTION: Notice.

Notice is here given in accordance with the Native American Graves Protection and Repatriation Act (NAGPRA), 25 U.S.C. 3005, of the intent to repatriate cultural items in the possession of the U.S. Department of the Interior, National Park Service, Intermountain Region, Santa Fe, NM, that meet the definition of “sacred objects” and “objects of cultural patrimony” under 25 U.S.C. 3001.

This notice is published as part of the National Park Service's administrative responsibilities under NAGPRA, 25 U.S.C. 3003 (d)(3). The determinations in this notice are the sole responsibility of the NAGPRA coordinator, Intermountain Region.

In 1994, the National Park Service assisted the Federal Bureau of Investigation and the United States Fish and Wildlife Service with the investigation of a Migratory Bird Treaty Act violation. The evidence included a collection of Native American objects confiscated from the East-West Trading Post in Santa Fe, NM. Preliminary subject matter expert review of the collection indicated that the objects were historically significant and potentially subject to NAGPRA. The collection was accessioned in 2002 into the Southwest Regional Office collections, now called the Intermountain Region Office. The 20 cultural items covered in this notice are 7 hoof rattles; 2 leather hide rattles; 1 pouch; 1 prayer sticks bundle with eagle feather; 1 heron's head bundle; 1 rattle with feathers; 1 medicine sack/kit; 1 bundle eagle feathers; 2 cranes head bundles; and 3 prayer sticks with eagle feathers.

Following adjudication of the case, a detailed assessment of the objects was made by Intermountain Region (IMR) NAGPRA program staff in close collaboration with the IMR Museum Services program staff and in consultation with representatives of potentially affiliated tribes. During consultation, representatives of the Navajo Nation, Arizona, New Mexico & Utah, identified the 20 cultural items as Navajo jish needed by traditional Navajo religious leaders for use in several major Navajo ceremonies widely practiced by members of the present-day Navajo tribe. Further, representatives of the Navajo Nation, Arizona, New Mexico & Utah, identified the 20 cultural items as objects of cultural patrimony having on-going historical, traditional, and cultural importance central to the Navajo people that could not be alienated by any individual. The written request for repatriation submitted by the Navajo Nation, Arizona, New Mexico & Utah, further articulated the particular ceremonial significance of the cultural items and of Navajo traditional laws regarding the possession of jish. Based on anthropological information, court case documentation, museum records, consultation evidence, and expert opinion, there is a cultural affiliation between the Navajo Nation, Arizona, New Mexico & Utah and the 20 sacred objects/objects of cultural patrimony.

Officials of the Intermountain Region have determined that, pursuant to 25 U.S.C. 3001 (3)(C), the 20 cultural items described above are specific ceremonial objects needed by traditional Native American religious leaders for the practice of traditional Native American religions by their present-day adherents. Officials of the Intermountain Region also have determined that, pursuant to 25 U.S.C. 3001 (3)(D), the 20 cultural items described above have ongoing historical, traditional, or cultural importance central to the Native American group or culture itself, rather than property owned by an individual. Lastly, officials of the Intermountain Region also have determined that, pursuant to 25 U.S.C. 3001 (2), there is a relationship of shared group identity that can be reasonably traced between the sacred objects/objects of cultural patrimony and the Navajo Nation, Arizona, New Mexico & Utah.

Representatives of any other Indian tribe that believes itself to be culturally affiliated with the sacred objects/objects of cultural patrimony should contact Dave Ruppert, NAGPRA Coordinator, NPS Intermountain Region, 12795 West Alameda Parkway, Lakewood, CO 80228, telephone (303) 969-2879, before August 18, 2008. Repatriation of the sacred objects/objects of cultural patrimony to the Navajo Nation, Arizona, New Mexico & Utah may proceed after that date if no additional claimants come forward.

The Intermountain Region is responsible for notifying the Apache Tribe of Oklahoma; Fort Sill Apache Tribe of Oklahoma; Hopi Tribe of Arizona; Jicarilla Apache Nation, New Mexico; Mescalero Apache Tribe of the Mescalero Reservation, New Mexico; Navajo Nation, Arizona, New Mexico & Utah; Ohkay Owingeh, New Mexico (formerly the Pueblo of San Juan); Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Carlos Apache Tribe of the San Carlos Reservation, Arizona; Tonto Apache Tribe of Arizona; Ute Mountain Tribe of the Ute Mountain Reservation, Colorado, New Mexico & Utah; White Mountain Apache Tribe of the Fort Apache Reservation, Arizona; Yavapai-Apache Nation of the Camp Verde Indian Reservation, Arizona; Ysleta Del Sur Pueblo of Texas; and Zuni Tribe of the Zuni Reservation, New Mexico that this notice has been published.

Dated: June 24, 2008
Sherry Hutt,
Manager, National NAGPRA Program.

[FR Doc. E8-16484 Filed 7-17-08; 8:45 am]

BILLING CODE 4312-50-S